DEPARTMENT OF THE INTERIOR

National Park Service

[NPS-WASO-NRNHL-DTS#-33362; PPWOCRADI0, PCU00RP14.R50000]

National Register of Historic Places; Notification of Pending Nominations and Related Actions

AGENCY: National Park Service, Interior.

ACTION: Notice.

SUMMARY: The National Park Service is soliciting electronic comments on the significance of properties nominated before January 29, 2022, for listing or related actions in the National Register of Historic Places.

DATES: Comments should be submitted electronically by February 24, 2022.

ADDRESSES: Comments are encouraged to be submitted electronically to National_Register_Submissions@nps.gov with the subject line “Public Comment on <property or proposed district name, (County) State>.” If you have no access to email you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before January 29, 2022. Pursuant to Section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers:

ARIZONA

Maricopa County

Casa Del Northern (North Central Phoenix Farmhouses and Rural Estate Homes, 1895-1959), 300 East Northern Ave., Phoenix, MP100007472

CALIFORNIA

Kern County

Woman's Club of Bakersfield, 1806 D St. (also known as 2030 18th St.), Bakersfield, SG100007480

Los Angeles County

Carthay Neighborhoods Historic District, Roughly bounded by South Fairfax Ave., Wilshire, West Pico, and La Cienega Blvds., Los Angeles, SG100007486

Kight, Morris, House, 1822 West 4th St., Los Angeles, SG100007487

Orange County

Santiago Orange Growers Association Packing House, 350 North Cypress St., Orange, SG100007485

San Francisco County

Glide Memorial Church, 330, 302 Ellis St., San Francisco, SG100007488

Santa Barbara County

Royal Theater, (Asian Americans and Pacific Islanders in California, 1850-1970 MPS), 848 Guadalupe St., Guadalupe, MP100007474

Sonoma County

Freestone Store, 500 Bohemian Hwy., Freestone, SG100007484

COLORADO

Chaffee County

Buena Vista Ranger Station, 410 East Main St., Buena Vista, SG100007489

McFadden Barn, 18840 Mountain View Dr., Buena Vista vicinity, SG100007490

FLORIDA

Orange County

Baptist Terrace Apartments, 414 East Pine St., Orlando, SG100007476

Sarasota County

Markowitz House, (Sarasota School of Architecture MPS), 1189 Center Pl., Sarasota, MP100007477

GEORGIA

Chatham County

Springfield Terrace School, 707 Hastings St., Savannah, SG100007479

IOWA

Winneshiek County

Broadway-Phelps Park Historic District (Boundary Increase), 202 Winnebago St., 307 West Main St., Decorah, BC100007492

MONTANA

Yellowstone County

Montana National Bank, 201 North Broadway, Billings, SG100007494

OHIO

Marion County

Marion Downtown Historic District, Roughly bounded by Center, Vine, Pleasant, and Orchard Sts., Marion, SG100007469

Additional documentation has been received for the following resource:

CALIFORNIA

Orange County

Fullerton Union High School Auditorium (Additional Documentation), 201 East Chapman Ave., Fullerton, AD93001019

Authority: Section 60.13 of 36 CFR part 60.

Dated: February 1, 2022.
Sherry A. Frear,
Chief, National Register of Historic Places/National Historic Landmarks Program.

[FR Doc. 2022-02678 Filed 2-8-22; 8:45 am]

BILLING CODE 4312-52-P